DEPARTMENT OF HOMELAND SECURITY

Federal Emergency Management Agency

44 CFR Part 67

[Docket No. FEMA-B-7746]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 31, 2008.

ADDRESSES: The corresponding preliminary Flood Insurance Rate Map (FIRM) for the proposed BFEs for each community are available for inspection at the community's map repository. The respective addresses are listed in the table below.

You may submit comments, identified by Docket No. FEMA-B-7746, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Montezuma County, Colorado, and Incorporated Areas
Carpenter Wash | Downstream Study Limit—Cortez Corporate Boundary/North Broadway | None | +6034 | City of Cortez.
| Upstream Study Limit—500 Feet Upstream (Southwest) of Empire Street | None | +6162
Denny Lake | Downstream Study Limit—Cortez Corporate Boundary/Hawkins Street | None | +6120 | City of Cortez.
| Upstream Study Limit—Empire Street | None | +6134
Dolores River | Downstream Study Limit—2nd Street/Dolores Corporate Boundary | None | +6932 | Town of Dolores, Unincorporated Areas of Montezema County.
| Upstream Study Limit—Breanna Lane/Dolores Corporate Boundary | None | +6962
| Downstream Study Limit—Confluence With Lost Canyon Creek | None | +6930 | Unincorporated Areas of Montezuma County, Town of Dolores.
| Upstream Study Limit—Montezuma/Dolores County Line | None | +8446
Glade Draw | Downstream Study Limit—1600 Feet Upstream (North) of McElmo Creek | None | +5970 | City of Cortez.
| Upstream Study Limit—200 Feet Upstream (North) of 7th Street | None | +6139
Industrial Wash | Downstream Study Limit—Confluence With Carpenter Wash | None | +6046 | City of Cortez.
| Upstream Study Limit—Cortez Corporate Boundary | None | +6055
Lower Cornett Draw | Downstream Study Limit—Confluence With Carpenter Wash | None | +6074 | City of Cortez.
| Upstream Study Limit—Cortez Corporate Boundary | None | +6117
Mancos River—Lower Reach | Downstream Study Limit—Confluence with Chicken Creek | None | +6816 | Unincorporated Areas of Montezuma County, Town of Mancos.
| Upstream Study Limit—7200 Feet Upstream of Confluence With Chicken Creek/FEMA Cross Section N | None | +6920
Mancos River—Upper Reach | Downstream Study Limit—200 Feet Upstream of Business 160 and Montezuma Street | None | +7054 | Unincorporated Areas of Montezuma County, Town of Mancos.
| Upstream Study Limit—700 Feet Upstream of Highway 160 | None | +7116
South Central | Downstream Study Limit—700 Feet Upstream (North) of McElmo Creek | None | +6021 | City of Cortez.
| Upstream Study Limit—200 Feet Downstream (South) of 4th Street | None | +6143
Walmart Tributary | Downstream Study Limit—1200 Feet Upstream (Northeast) of McElmo Creek | None | +6068 | City of Cortez, Unincorporated Areas of Montezema County.
| Upstream Study Limit—100 Feet Downstream (South) of Main Street | None | +6140
West Dolores River | Downstream Study Limit—Confluence with Dolores River. | None | +7366 | Unincorporated Areas of Montezema County
| Upstream Study Limit—Montezuma/Dolores County Line | None | +7546
West South Central | Downstream Study Limit—Confluence with South Central | None | +6046 | City of Cortez, Unincorporated Areas of Montezema County.
| Upstream Study Limit—7th Street | None | +6134
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Cortez
Maps are available for inspection at City Hall, 210 E. Main Street, Cortez, CO 81321.
Town of Dolores
Maps are available for inspection at Town Hall, 420 Central Avenue, Dolores, CO 81321.
Town of Mancos
Maps are available for inspection at Town Hall, 117 North Main Street, Mancos, CO 81328.
Unincorporated Areas of Montezuma County
Maps are available for inspection at County Courthouse, 109 West Main Street, Cortez, CO 81321.
Middlesex County, Connecticut, and Incorporated Areas
Carr Brook | From confluence with Connecticut River | +24 | +25 | Town of Portland.
| To approximately 1,130 feet upstream from Strickland Road | +24 | +25
Tributary A | From confluence with Carr Brook | +24 | +25 | Town of Portland.
| To approximately 0.45 mile upstream of Bartlett Street | +24 | +25
Chestnut Brook | From mouth at Mattabesset River | +22 | +23 | Town of Cromwell.
| To approximately 40 feet upstream of Route 9 | +22 | +23
Coginchaug River | At confluence with Mattabesset River | +22 | +23 | City of Middletown.
| Approximately 450 feet upstream of State Route 66 (Washington Street) | +22 | +23
Coles Road Brook | From mouth at Mattabesset River | +22 | +23 | Town of Cromwell.
| To approximately 26 feet downstream of Route 372 | +22 | +23
Connecticut River | Approximately 1.17 miles downstream of confluence of Clark Creek | +10 | +11 | Town of Cromwell, City of Middletown, Town of East Haddam, Town of East Hampton, Town of Haddam, Town of Portland.
| Approximately 0.59 mile upstream of confluence of Hales Brook | +24 | +25
Cromwell Creek | From confluence with Connecticut River | +22 | +24 | Town of Cromwell.
| To approximately 1,300 feet upstream of South Street | +23 | +24
East Swamp Brook | At confluence with Swamp Brook | +22 | +23 | City of Middletown.
| Approximately 350 feet upstream of Tiger Lane | +22 | +23
Hales Brook | From confluence with Connecticut River | +24 | +25 | Town of Portland.
| To approximately 0.76 mile upstream of confluence | +24 | +25
Mattabesset River | At confluence with Connecticut River | +22 | +23 | City of Middletown, Town of Cromwell.
| Approximately 500 feet downstream of Berlin Road | +22 | +23
Mill Creek | At confluence with Connecticut River | +13 | +15 | Town of Haddam.
| Approximately 1,200 feet upstream of Route 9A | +14 | +15
Miner Brook | At confluence with Mattabesset River | +22 | +23 | City of Middletown.
Moodus River | At confluence with Salmon River | +11 | +14 | Town of East Haddam.
| At downstream side of Johnsonville Road | +11 | +14
Ponset Brook | At confluence with Connecticut River | +16 | +17 | Town of Haddam.
| Approximately 0.40 mile upstream of confluence with Connecticut River | +16 | +17
Reservoir Brook | From confluence with Connecticut River | +24 | +25 | Town of Portland.
| To approximately 25 feet downstream of Route 17 | +24 | +25
Salmon River | At confluence with Connecticut River | +11 | +14 | Town of Haddam, Town of East Haddam.
| At downstream side of Leesville Dam | +11 | +14
Sawmill Brook | At confluence with Mattabesset River | +22 | +23 | City of Middletown.
| Approximately 1,270 feet upstream of confluence with Mattabesset River | +22 | +23
Shunpike Creek | Mouth at Mattabesset River | +22 | +23 | Town of Cromwell.
| To approximately 0.26 mile upstream of mouth at Mattabesset River | +22 | +23
Succor Brook | At confluence with Connecticut River | +10 | +12 | Town of East Haddam.
| Approximately 125 feet upstream of Lumber Yard Road | +11 | +12
Sumner Brook | At confluence with Connecticut River | +22 | +23 | City of Middletown.
| At upstream side of State Routes 9 and 17 culvert | +22 | +23
Swamp Brook | At confluence with Mattabesset River | +22 | +23 | City of Middletown.
| At confluence of East Swamp and West Swamp Brooks | +22 | +23
West Swamp Brook | At upstream side of Kaplan Drive | +22 | +23 | City of Middletown.
| At confluence with Swamp Brook | +22 | +23
Willow Brook | From mouth at Mattabesset River | +22 | +23 | Town of Cromwell.
| To East View Drive | +22 | +23
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Middletown
Maps are available for inspection at City of Middletown Planner's Office, 245 deKoven Drive, Middletown, CT.
Town of Cromwell
Maps are available for inspection at Town of Cromwell Planner's Office, 41 West Street, Cromwell, CT.
Town of East Haddam
Maps are available for inspection at Town of East Haddam Planner's Office, 7 Main Street, East Haddam, CT.
Town of East Hampton
Maps are available for inspection at Town of East Hampton Planning Administrator's Office, 20 East High Street, East Hampton, CT.
Town of Haddam
Maps are available for inspection at Town of Haddam Engineer's Office, 30 Field Park Drive, Haddam, CT.
Town of Portland
Maps are available for inspection at Town of Portland Planner's Office, 33 East Main Street, Portland, CT.
Gadsden County, Florida, and Incorporated Areas
Holley Branch | Approximately 2,500 feet upstream of the confluence with Ochlockonee River | None | +86 | Unincorporated Areas of Gadsden County, City of Midway.
| Approximately 4,300 feet upstream of Dupont Road | None | +123
Holley Branch Unnamed Tributary | At the confluence with Holley Branch | None | +91 | Unincorporated Areas of Gadsden County, City of Midway.
| Approximately 4,400 feet upstream of the confluence with Holley Branch | None | +101
Lake Talquin (Unnamed Tributary) | Approximately 1,100 feet upstream of the confluence with Lake Talquin | None | +75 | Unincorporated Areas of Gadsden County.
| Approximately 1.8 miles upstream of the confluence with Lake Talquin | None | +120
Monroe Creek | Approximately 1,400 feet upstream of the confluence with Little River | None | +86 | Unincorporated Areas of Gadsden County, City of Midway.
| Approximately 800 feet upstream of U.S. Highway 90 | None | +139
Mosquito Creek Unnamed Tributary | Just upstream of Martin Luther King Jr. Boulevard | None | +77 | City of Chattahoochee.
| Just downstream of East River Road | None | +103
Ochlockonee River Unnamed Tributary | Approximately 4,200 feet upstream of the confluence with Ochlockonee River | None | +100 | Unincorporated Areas of Gadsden County.
| Approximately 1.6 miles upstream of the confluence of Unnamed Tributary to Ochlockonee River Unnamed Tributary | None | +156
South Mosquito Creek | Approximately 1,670 feet upstream of the confluence with Mosquito Creek (just upstream of the Gadsden County/City of Chattahoochee corporate limit) | None | +81 | Unincorporated Areas of Gadsden County.
| Approximately 2,400 feet upstream of the confluence with South Mosquito Creek Unnamed Tributary | None | +81
South Mosquito Creek Unnamed Tributary | Approximately 200 feet upstream of the confluence with South Mosquito Creek | None | +81 | Unincorporated Areas of Gadsden County, City of Chattahoochee.
| Approximately 4,100 feet upstream of Depot Road | None | +118
Tanyard Branch | Approximately 1,200 feet upstream of the confluence with Quincy Creek | None | +118 | Unincorporated Areas of Gadsden County, City of Quincy.
| Approximately 180 feet upstream of Seventh Street | None | +182
Unnamed Tributary 1 | At the confluence with Tanyard Branch | None | +130 | City of Quincy.
| Approximately 150 feet upstream of Circle Drive | None | +162
Unnamed Tributary 2 | At the confluence with Tanyard Branch | None | +131 | Unincorporated Areas of Gadsden County, City of Quincy.
| Approximately 4,500 feet upstream of the confluence with Tanyard Branch | None | +146
Unnamed Tributary to Ochlockonee River Unnamed Tributary | At the confluence with Ochlockonee River Unnamed Tributary | None | +130 | Unincorporated Areas of Gadsden County, Town of Havana.
| Approximately 2,350 feet upstream of State Highway 12 | None | +152
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Chattahoochee
Maps are available for inspection at Chattahoochee City Hall, 22 Jefferson Street, Chattahoochee, FL.
City of Midway
Maps are available for inspection at Midway City Hall, 50 Martin Luther King Boulevard, Midway, FL.
City of Quincy
Maps are available for inspection at Quincy City Hall, 404 West Jefferson Street, Quincy, FL.
Town of Havana
Maps are available for inspection at Havana Town Hall, 711 North Main Street, Havana, FL.
Unincorporated Areas of Gadsden County
Maps are available for inspection at Gadsden County Administration Building, 5B East Jefferson Street, Quincy, FL.
Hillsborough County, Florida, and Incorporated Areas
Backwater from Cypress Creek | Approximately 900 feet southwest of the intersection of Clubhouse Drive and Kings Boulevard | None | +30 | Unincorporated Areas of Hillsborough County.
Ponding Area | Approximately 400 feet northwest of the intersection of Ojai Avenue and Hacienda Drive | None | +53.8 | Unincorporated Areas of Hillsborough County.
| Approximately 400 feet northwest of the intersection of Kings Green Drive and Vilmont Greens Drive | None | +19.1 | Unincorporated Areas of Hillsborough County.
| Approximately 200 feet east of the intersection of 36th Street and Myrtle Tree Lane | None | +29.1 | Unincorporated Areas of Hillsborough County.
| Approximately 100 feet east of the intersection of Vilmont Greens Drive and Kensington Greens Drive | None | +29.9 | Unincorporated Areas of Hillsborough County.
| Approximately 370 feet northeast of the intersection of Radison Avenue and Radison Lake Court | None | +35.6 | Unincorporated Areas of Hillsborough County.
| Approximately 500 feet northeast of the intersection of Kings Boulevard and McDaniel Street | None | +35.6 | Unincorporated Areas of Hillsborough County.
| Approximately 400 feet southeast of the intersection of Olive Branch Drive and Oxford Park Drive | None | +36.5 | Unincorporated Areas of Hillsborough County.
| Approximately 500 feet southeast of the intersection of Vista Greens Drive and New Point Loop | None | +37.8 | Unincorporated Areas of Hillsborough County.
| Approximately 1,600 feet east of the intersection of Vista Greens Drive and New Point Loop | None | +33 | Unincorporated Areas of Hillsborough County.
| Approximately 600 feet southwest of the intersection of Chipper Drive and Pebble Beach Boulevard | None | +59.1 | Unincorporated Areas of Hillsborough County.
| Approximately 600 feet southwest of the intersection of Council Drive and Pebble Beach Boulevard | None | +51.4 | Unincorporated Areas of Hillsborough County.
| Approximately 300 feet southwest of the intersection of Foxhunt Drive and Finsbury Circle | None | +34 | Unincorporated Areas of Hillsborough County.
| Approximately 300 feet southwest of the intersection of Foxhunt Drive and Foxglove Circle | None | +31 | Unincorporated Areas of Hillsborough County.
| Approximately 800 feet southeast of the intersection of Nebraska Avenue and 139th Avenue | None | +44.7 | Unincorporated Areas of Hillsborough County.
| Approximately 1,300 feet southeast of the intersection of Nebraska Avenue and 139th Avenue | None | +39.3 | Unincorporated Areas of Hillsborough County.
| Approximately 300 feet northeast of the intersection of Lucerne Drive and 143rd Avenue | None | +43.4 | Unincorporated Areas of Hillsborough County.
| Approximately 200 feet northeast of the intersection of Skipper Road and 16th Street | None | +43.8 | Unincorporated Areas of Hillsborough County.
| Approximately 800 feet northwest of the intersection of Ojai Avenue and El Rancho Drive | None | +52.7 | Unincorporated Areas of Hillsborough County.
| Approximately 500 feet southeast of the intersection of Emerald Lake Drive and Del Webb Boulevard | None | +42.7 | Unincorporated Areas of Hillsborough County.
| Approximately 400 feet south of the intersection of Foxhunt Drive and Finsbury Circle | None | +37 | Unincorporated Areas of Hillsborough County.
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESS
Unincorporated Areas of Hillsborough County
Maps are available for inspection at Hillsborough County Department of Planning and Growth Management, 5701 East Hillsborough Avenue, Suite 1140, Tampa, FL.
Leon County, Florida, and Incorporated Areas
Northeast Drainage Ditch Tributary 1 | Approximately 200 feet upstream of the confluence of Northeast Drainage Ditch | +90 | +91 | City of Tallahassee.
| Just downstream of Lonnbladh Road | +90 | +95
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESS
City of Tallahassee
Maps are available for inspection at Tallahassee City Hall, 300 South Adams Street, Tallahassee, FL.
Taylor County, Florida, and Incorporated Areas
Aucilla River | At U.S. Highway 98 | None | +10 | Unincorporated Areas of Taylor County.
| At the Taylor/Madison County boundary | None | +45
Pimple Creek. | At the confluence with Spring Creek | +36 | +37 | City of Perry.
| Approximately 400 feet downstream of Cherry Street | +42 | +41
Pimple Creek East Branch | Just upstream of Johnson Stripling Road | +43 | +44 | City of Perry.
| Approximately 1,000 feet upstream of Johnson Stripling Road | +43 | +44
Rocky Creek | At the confluence with Spring Street | None | +26 | Unincorporated Areas of Taylor County.
| Approximately 1,300 feet upstream of U.S. Highway 221 | None | +56
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Perry
Maps are available for inspection at Perry City Hall, 224 South Jefferson Street, Perry, FL.
Unincorporated Areas of Taylor County
Maps are available for inspection at Taylor County Building/Planning Department, 201 East Green Street, Perry, FL.
Union County, Florida, and Incorporated Areas
Santa Fe River Unnamed Tributary | Approximately 2,000 feet upstream of the confluence with the Santa Fe River | None | +73 | Town of Worthington Springs, Unincorporated Areas of Union County.
| Approximately 1,940 feet upstream of Southwest 43rd Trail | None | +113
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Worthington Springs
Maps are available for inspection at Worthington Springs City Hall, State Road 121 3rd Avenue, Worthington Springs, FL.
Unincorporated Areas of Union County
Maps are available for inspection at Union County Office of Emergency Management, 58 Northwest 1st Street, Lake Butler, FL.
Haralson County, Georgia, and Incorporated Areas
Cochran Creek | Approximately 950 feet downstream from Dallas Road | None | +1157 | Unincorporated Areas of Haralson County, City of Buchanan.
| Approximately 750 feet upstream from Moore Street | None | +1199
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Buchanan
Maps are available for inspection at 4300 Highway 120, Buchanan, GA 30113.
Unincorporated Areas of Haralson County
Maps are available for inspection at 155 Van Wert Street, Buchanan, GA 30113.
Bourbon County, Kansas, and Incorporated Areas
Marmaton River | At the confluence of Mill Creek | +800 | +801 | Unincorporated Areas of Bourbon County.
| Approximately 500 feet upstream of Sterwarts Dam | +804 | +805
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESS
Unincorporated Areas of Bourbon County
Maps are available for inspection at 210 South National Avenue, Fort Scott, KS 66701.
Erie County, New York, and Incorporated Areas
Buffalo River | At the confluence with Lake Erie | +580 | +581 | City of Buffalo.
| A point located approximately 200 feet upstream from the Railroad bridge | +580 | +581
Cazenovia Creek | At a point approximately 175 feet upstream of Bailey Road | +585 | +584 | City of Buffalo.
| At a point approximately 830 feet upstream from the Golf Course Bridge | +598 | +597
Ellicott Creek | At a point approximately 1,070 feet upstream from the confluence of Ellicott Creek North Diversion Channel | +573 | +574 | Town of Amherst, Village of Williamsville.
| A point located approximately 230 feet downstream of Interstate 90 | +684 | +683
Ellicott Creek North Diversion Channel | At a point located approximately 1,190 feet upstream of North Ellicott Creek Road | +573 | +574 | Town of Amherst.
| At the upstream confluence with Ellicott Creek | +575 | +577
Ellicott Creek Pfohl Park Diversion Channel | At the downstream confluence with Ellicott Creek | +575 | +577 | Town of Amherst.
| At the upstream confluence with Ellicott Creek | +576 | +577
Lake Erie | Entire shoreline | +580 | +581 | City of Buffalo.
Ransom Creek | A point located approximately 5 feet upstream of Glen Oakes Drive | +581 | +582 | Town of Amherst, Town of Clarence.
| A point located approximately 120 feet upstream of Knauss Road | None | +652
Scajaquada Creek | A point located on the upstream side of the Eastbound on-ramp to Interstate 190 | +573 | +578 | City of Buffalo.
| At exiting of the Scajaquada Drain | +608 | +611
Spicer Creek | A point located approximately 1,625 feet upstream of East River Road | +570 | +571 | Town of Grand Island.
| A point located approximately 3,350 feet upstream of Harvey Road | None | +585
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Buffalo
Maps are available for inspection at Buffalo City Hall, 65 Niagara Square, Buffalo, NY.
Town of Amherst
Maps are available for inspection at Amherst Town Hall, 5583 Main Street, Williamsville, NY.
Town of Clarence
Maps are available for inspection at Clarence Town Engineer's Office, 6221 Goodridge, Clarence, NY.
Town of Grand Island
Maps are available for inspection at Grand Island Town Hall, 2255 Baseline Road, Grand Island, NY.
Village of Williamsville
Maps are available for inspection at Williamsville Village Hall, 5565 Main Street, Williamsville, NY.
Avery County, North Carolina, and Incorporated Areas
Elk River | At the North Carolina/Tennessee state boundary | None | +2693 | Unincorporated Areas of Avery County, Town of Banner Elk.
| Approximately 0.5 mile downstream of Glove Factory Lane | +3672 | +3673
Tributary 1 | At the North Carolina/Tennessee state boundary | None | +2772 | Unincorporated Areas of Avery County.
| Approximately 0.7 mile upstream of North Carolina/Tennessee state boundary | None | +3198
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Banner Elk
Maps are available for inspection at Banner Elk Town Hall, 200 Park Avenue, Banner Elk, NC
Unincorporated Areas of Avery County
Maps are available for inspection at Avery County Courthouse, 200 Montezuma Street, Newland, NC.
Providence County, Rhode Island, and Incorporated Areas
Blackstone River | Just downstream of Exchange Street | +33 | +34 | City of Central Falls, City of Pawtucket, City of Woonsocket, Town of Cumberland, Town of Lincoln, Town of North Smithfield.
| Approximately 2,100 feet upstream of the confluence of Slaterville River Branch | +159 | +158
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Central Falls
Maps are available for inspection at City Hall, 580 Broad Street, Central Falls, RI 02863.
City of Pawtucket
Maps are available for inspection at City Hall, 137 Roosevelt Avenue, Pawtucket, RI 02860.
City of Woonsocket
Maps are available for inspection at City Hall, 169 Main Street, Woonsocket, RI 02895.
Town of Cumberland
Maps are available for inspection at Town Hall, 45 Broad Street, Cumberland, RI 02864.
Town of Lincoln
Maps are available for inspection at Town Hall, 100 Old River Road, Lincoln, RI 02865.
Town of North Smithfield
Maps are available for inspection at Town Hall, 575 Smithfield Road, North Smithfield, RI 02896.
Rutland County, Vermont, and Incorporated Areas
Clarendon River | Approximately 1,700 feet upstream of confluence with Otter Creek | +488 | +487 | Town of Rutland.
| At the confluence with Otter Creek | +488 | +487
Curtis Brook | At the confluence with East Creek | +664 | +663 | Town of Rutland.
| Approximately 500 feet upstream of confluence with East Creek | +668 | +667
East Creek | At the confluence with Otter Creek | +531 | +532 | City of Rutland, Town of Rutland.
| Approximately 1.07 miles upstream of East Pittsford Road | +757 | +752
Homer Stone Brook | At the confluence with Otter Creek | +633 | +630 | Town of Wallingford.
| Approximately 75 feet upstream of confluence with Otter Creek | +633 | +632
Lake St. Catherine (Little Lake) | Entire shoreline within the Town of Poultney | None | +486 | Town of Poultney.
Moon Brook | At the downstream side of Granger Street | +534 | +533 | City of Rutland.
| Approximately 2,964 feet upstream of Sharon Drive | +691 | +699
Otter Creek | At upstream side of Center Rutland Dam | +516 | +515 | Town of Clarendon, City of Rutland, Town of Danby, Town of Rutland, Town of Wallingford.
| Approximately 1.09 miles upstream of confluence of Homer Stone Brook | +643 | +642
Roaring Brook | At the confluence with Otter Creek | +569 | +567 | Town of Wallingford.
| Approximately 165 feet upstream of confluence with Otter Creek | +572 | +571
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Rutland
Maps are available for inspection at Rutland City Clerk's Office, 1 Strongs Avenue, Rutland, VT.
Town of Clarendon
Maps are available for inspection at Clarendon Town Hall, 279 Middle Road, North Clarendon, VT.
Town of Danby
Maps are available for inspection at Danby Town Hall, 130 Brook Road, Danby, VT.
Town of Poultney
Maps are available for inspection at Poultney Town Clerk's Office, 9 Main Street, Poultney, VT.
Town of Rutland
Maps are available for inspection at Rutland Town Clerk's Office, 181 Business Route 4, Center Rutland, VT.
Town of Wallingford
Maps are available for inspection at Wallingford Town Clerk's Office, 75 School Street, Wallingford, VT.

(Catalog of Federal Domestic Assistance No. 97.022, “Flood Insurance.”)

Dated: October 30, 2007.
David I. Maurstad,
Federal Insurance Administrator of the National Flood Insurance Program, Department of Homeland Security, Federal Emergency Management Agency.

[FR Doc. E7-21610 Filed 11-1-07; 8:45 am]

BILLING CODE 9110-12-P